DEPARTMENT OF ENERGY

National Nuclear Security Administration

Agency Information Collection Extension

AGENCY: National Nuclear Security Administration, U.S. Department of Energy.

ACTION: Submission for Office of Management and Budget (OMB) review; comment request.

SUMMARY: The Department of Energy (DOE) has submitted a request to the OMB for the extension of information collection authorities under the provisions of the Paperwork Reduction Act of 1995. DOE requests a three-year extension of its authority to collection information for its American Assured Fuel Supply Program, OMB Control Number 1910-5173. The proposed collection is necessary for DOE to determine the eligibility of the applicants to access low enriched uranium (LEU) in the American Assured Fuel Supply (AAFS).

DATES: Comments regarding this collection must be received on or before February 8, 2021. If you anticipate difficulty in submitting comments, but find it difficult to do so within the period of time allowed by this notice, please advise the OMB Desk Officer of your intention to make a submission as soon as possible. The Desk Officer may be telephoned at (202) 395-4718.

ADDRESSES: Written comments and recommendations for the proposed information collection should be sent within 30 days of publication of this notice to www.reginfo.gov/public/do/PRAMain. Find this particular information collection by selecting “Currently under 30-day Review—Open for Public Comments” or by using the search function. Comments and recommendations may also be sent within 30 days of publication of this notice to Jessica Norles, Foreign Affairs Specialist, by email at jessica.norles@nnsa.doe.gov. If comments cannot be sent by email, please contact Jessica Norles at the phone number listed in the FOR FURTHER INFORMATION CONTACT section of this notice for an alternative means of submission.

FOR FURTHER INFORMATION CONTACT: For other questions, contact Jessica Norles, Foreign Affairs Specialist, Office of Nonproliferation and Arms Control, National Nuclear Security Administration, U.S. Department of Energy, 1000 Independence Ave. SW, Washington, DC 20585, jessica.norles@nnsa.doe.gov, (202) 586-2271.

SUPPLEMENTARY INFORMATION: DOE published in the Federal Register a Notice of Availability for the American Assured Fuel Supply (AAFS). 76 FR 51357 (Aug. 18, 2011), and a Notice of Availability of application requirements to access the material in the AAFS. 78 FR 72071 (Dec. 2, 2013). DOE previously submitted an information collection extension request to the OMB for an extension under the Paperwork Reduction Act of 1995 in 2017. 82 FR 17650 (April 12, 2017).

This information collection request contains: (1) OMB No.: 1910-5173; (2) Information Collection Request Title: The American Assured Fuel Supply Program; (3) Type of Review: Extension; (4) Purpose: DOE created the AAFS, a reserve of LEU to serve as a backup fuel supply for foreign recipients to be supplied through U.S. persons, or for domestic recipients, in the event of fuel supply disruption. This effort supports the United States Government's nuclear nonproliferation objectives by supporting civilian nuclear energy development while minimizing proliferation risks. This collection of information is necessary for DOE to determine the eligibility of applicants to access the LEU in the AAFS and implement this important nonproliferation initiative; (5) Annual Estimated Number of Respondents: 10; (6) Annual Estimated Number of Total Responses: 10; (7) Annual Estimated Number of Burden Hours: 8 per respondent for a total of 80 per year; (8) Annual Estimated Reporting and Recordkeeping Cost Burden: $960.13 per respondent for a total of $9,601.28 per year.

Signing Authority

This document of the Department of Energy was signed on December 16, 2020, by Brent K. Park, Deputy Administrator for Defense Nuclear Nonproliferation, National Nuclear Security Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 5, 2021.
Treena V. Garrett,
Federal Register Liaison Officer, U.S. Department of Energy.

[FR Doc. 2021-00108 Filed 1-7-21; 8:45 am]

BILLING CODE 6450-01-P